DEPARTMENT OF THE INTERIOR

Bureau of Land Management

[ES-960-1420-00] ES-047170, Group 152, Wisconsin

Notice of Filing of Plat of Survey; Wisconsin, Stay Lifted

On Thursday, May 4, 1995, there was published in the Federal Register, Volume 60, Number 96, on page 26736, a notice entitled, “Notice of Filing of Plat of Survey; Stayed.” Said notice referenced the say of the plat depicting the survey of two islands located in Township 8 North, Range 21 East, Fourth Principal Meridian, Wisconsin, accepted March 13, 1995.

The protest against the survey was withdrawn on June 20, 2002, and the plat of survey accepted March 13, 1995, was officially filed in Eastern States Office, Springfield, Virginia, at 7:30 a.m. on June 24, 2002.

Copies of the plat will be made available upon request and prepayment of the reproduction fee of $2.75 per copy.

Dated: July 2, 2002.
Stephen D. Douglas,
Chief Cadastral Surveyor.

[FR Doc. 02-18233 Filed 7-18-02; 8:45 am]

BILLING CODE 4310-GJ-M